DEPARTMENT OF TRANSPORTATION

Federal Aviation Administration

14 CFR Part 39

[Docket No. FAA-2007-27495; Project Identifier 2005-SW-14-AD]

RIN 2120-AA64

Airworthiness Directives; Eurocopter France Helicopters

AGENCY: Federal Aviation Administration (FAA), DOT.

ACTION: Proposed rule; withdrawal.

SUMMARY: The FAA is withdrawing a notice of proposed rulemaking (NPRM) that proposed to adopt a new airworthiness directive (AD) that would have applied to certain Eurocopter France (now Airbus Helicopters) Model AS350B, BA, B1, B2, B3, C, D, and D1; EC-130B4; and AS355E, F, F1, F2, and N helicopters. The NPRM would have required modifying the collective hold-down strap (strap) and thereafter inspecting it at specified intervals to ensure the rubber grommet is resting against the console or replacing the strap with a strap that has a torsional spring at the lower end of the strap. Since issuance of the NPRM, the FAA issued AD 2014-02-05, which addresses the unsafe condition identified in the NPRM. Accordingly, the NPRM is withdrawn.

DATES: As of March 8, 2021, the proposed rule, which was published in the Federal Register on March 13, 2007 (72 FR 11297), is withdrawn.

ADDRESSES:

Examining the AD Docket

You may examine the AD docket on the internet at https://www.regulations.gov by searching for and locating Docket No. FAA-2007-27495; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Vince Massey, Aerospace Engineer, Systems and Equipment Section, FAA, Seattle ACO Branch, 2200 South 216th St., Des Moines, WA 98198; phone and fax: 206-231-3545; email: vince.massey@faa.gov.

SUPPLEMENTARY INFORMATION:

Discussion

The FAA issued an NPRM that proposed to amend 14 CFR part 39 by adding an AD that would have applied to the specified products. The NPRM was published in the Federal Register on March 13, 2007 (72 FR 11297). The NPRM was prompted by reports of two accidents occurring while the pilots were performing an autorotation. The pilots were unable to arrest the descent of the helicopter using collective blade pitch due to the collective stick locking in the down position when the collective was lowered during the maneuver. The NPRM proposed to require modifying the strap and thereafter inspecting it at specified intervals to ensure the rubber grommet is resting against the console or replacing the strap with a strap that has a torsional spring at the lower end of the strap.

Actions Since the NPRM Was Issued

Since issuance of the NPRM, the FAA has published AD 2014-02-05, Amendment 39-17733 (79 FR 5251, January 31, 2014) (AD 2014-02-05), which addresses the unsafe condition for Model AS350B, BA, B1, B2, B3, C, D, and D1 helicopters identified in the NPRM. The FAA also determined that the Model EC-130B4 helicopters and Model AS355E, F, F1, F2, and N helicopters identified in the NPRM are not affected by the unsafe condition because the root cause of the unsafe condition is certain collective straps that are only installed on the Model AS350B, BA, B1, B2, B3, C, D, and D1 helicopters. Therefore, the FAA has determined that this AD action is not appropriate.

AD 2014-02-05 includes certain helicopters that were not included in the NPRM. Although the NPRM applied only to helicopters with a certain part-numbered hold-down strap, AD 2014-02-05 applies to Model AS350B, BA, B1, B2, B3, C, D, and D1 helicopters that do not have a redesigned hold-down strap. AD 2014-02-05 corresponds with EASA AD 2009-0019, dated February 3, 2009.

Withdrawal of the NPRM constitutes only such action and does not preclude the FAA from further rulemaking on this issue, nor does it commit the FAA to any course of action in the future.

Request To Revise the Applicability of the NPRM

The European Aviation Safety Agency (now European Union Aviation Safety Agency (EASA) and American Eurocopter, in consultation with Eurocopter, requested that the applicability of the NPRM be limited to helicopters modified by a Geneva center console supplemental type certificate (STC).

The FAA acknowledges these comments to the NPRM. However, the FAA considers the requested change to the NPRM moot by this withdrawal.

FAA's Conclusions

Upon further consideration, the FAA has determined that the NPRM does not adequately address the identified unsafe condition and is unnecessary due to other rulemaking. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2007-27495, which was published in the Federal Register on March 13, 2007 (72 FR 11297), is withdrawn.

Issued on February 24, 2021.
Gaetano A. Sciortino,
Deputy Director for Strategic Initiatives, Compliance & Airworthiness Division, Aircraft Certification Service.

[FR Doc. 2021-04235 Filed 3-5-21; 8:45 am]

BILLING CODE 4910-13-P